FEDERAL MARITIME COMMISSION

Notice of Agreement Filed

The Commission hereby gives notice of the filing of the following agreement under the Shipping Act of 1984. Interested parties may submit comments on the agreement to the Secretary, Federal Maritime Commission, Washington, DC 20573, within twelve days of the date this notice appears in the Federal Register. A copy of the agreement is available through the Commission's Web site (www.fmc.gov) or by contacting the Office of Agreements at (202)-523-5793 or tradeanalysis@fmc.gov.

Agreement No.: 012067-021.

Title: U.S. Supplemental Agreement to the HLC Agreement.

Parties: BBC Chartering Carriers GmbH & Co. KG and BBC Chartering & Logistics GmbH & Co. KG (acting as a single party); Hanssy Shipping Pte. Ltd.; and Industrial Maritime Carriers, L.L.C.

Filing Party: Wade S. Hooker, Attorney; 211 Central Park W; New York, NY 10024.

Synopsis: The amendment deletes Rickmers-Linie GmbH & Cie. KG as a party to the U.S. Supplemental Agreement and to delete NPC Projects A/S and Rickmers-Linie GmbH & Cie. KG as a joint party to the HLC Agreement.

By Order of the Federal Maritime Commission.
Dated: September 22, 2017.
Rachel E. Dickon,
Assistant Secretary.

[FR Doc. 2017-20685 Filed 9-26-17; 8:45 am]

BILLING CODE 6731-AA-P